FEDERAL MARITIME COMMISSION

[Docket No. FMC-2023-0016]

Request for Information

AGENCY: Federal Maritime Commission.

ACTION: Request for information.

SUMMARY: The Federal Maritime Commission (Commission) seeks public comment on questions related to maritime data transmission, accessibility, and accuracy. Information received in response to this request will supplement information gathered during the public meetings of the Maritime Transportation Data Initiative and to better inform the Commission about commercial activities.

DATES: Submit comments on or before October 16, 2023.

ADDRESSES: The Commission will collect comments through the Federal eRulemaking Portal at www.regulations.gov under Docket No. FMC-2023-0016. Please refer to the “Public Participation” heading under the SUPPLEMENTARY INFORMATION section of this notice for detailed instructions on how to submit comments, including instructions on how to request confidential treatment.

FOR FURTHER INFORMATION CONTACT: William Cody, Secretary; Phone: (202) 523-5725; Email: secretary@fmc.gov.

SUPPLEMENTARY INFORMATION:

I. Background

Cargo in international trade moves between the control of numerous entities. While some key data elements are readily shared between supply chain participants, the lack of timely and accurate access to some data elements can lead to inefficiencies, as was seen during the COVID-19 pandemic. Additionally, the lack of data standardization reduces the ability to move cargo in an effective way.

Improved communication and data availability could ease the flow of data and potentially provide positive results including fewer and shorter duration instances of congestion; quicker movement of import and export shipments; assessment of fewer storage fees; and a reduction in in cargo holds thereby improving supply chain effectiveness and efficiency.

II. Request for Information

The purposes of the Shipping Act as stated in 46 U.S.C. 40101 include ensuring an efficient, economical ocean transportation supply system. The data challenges of the supply chain were examined during the Maritime Transportation Data Initiative (MTDI) led by Commissioner Carl W. Bentzel. A report summarizing the information was released by Commissioner Bentzel in May 2023.¹ The Commission seeks additional information from the shipping public to expand the information gathered from the MTDI sessions and address additional topics related to data availability, accuracy, and exchange.

¹ Available at https://www.fmc.gov/wp-content/uploads/2023/04/MTDIReportandViews.pdf.

During the MTDI sessions, Commissioner Bentzel heard comments from many supply chain participants regarding the methods that are used to transmit data between parties involved in moving ocean containers. Participants discussed frequently having to email information regarding the movement and availability of cargo or needing to visit a website to check the status of containers/shipments. In some cases, the only way to know the status of cargo was to call various supply chain service providers and ask for information about specific shipments. These were all presented as examples of common, but inefficient, ways to learn the status of cargo. MTDI session participants also discussed the industry being slow to move to more accurate and efficient methods for data transmission, such as Electronic Data Interchange (EDI) and Application Programming Interface (API), which are more timely and often more accurate. To build on the information gathered during these meetings, the Commission is seeking public comments on the following questions related to maritime data transmission, accessibility, and accuracy. The purpose of these questions is to seek information about data sharing practices, not information about specific customers/partners and commenters should not name specific customers/partners when responding. The Commission has segmented the questions into categories specific to certain stakeholders but is also interested in hearing from the public who may respond to all of the questions.

Transportation Service Providers (e.g., Ocean Carriers, Marine Terminal Operators (MTOs), Licensed Motor Carriers (LMCs), Railroad Operators Who Transport International Maritime Cargo)

1. What are the largest barriers that currently exist that prevent you from sharing data with shippers/Beneficial Cargo Owners (BCOs)?

2. How much effort and/or cost would it take to adapt your existing computer systems to be able to share more data with shippers/BCOs?

3. What concerns do you have about providing additional data to shippers/BCOs?

4. What are your preferred means to provide data to shippers/BCOs. (e.g., EDI, API, email)?

5. Are there innovative methods you use for transmitting information with your highest volume shippers/BCOs?

6. What can shippers/BCOs do to better predict container availability, earliest return date, etc.?

7. What data would you be willing to provide openly to the public? What would you only provide to the shipper/BCO/others in the direct supply chain for a container?

8. What data are collected and controlled by other parties in the supply chain that influence your business operations?

Importers/Exporters (e.g., BCOs, Shippers)

1. What are the data points during the shipping process that are least likely to be available/accurate? What are the most accurate and visible data points?

2. What data points are the most important to have accurate and in advance to facilitate planning of service? How often do you receive them accurately and in advance? How are changes communicated to you?

3. What is the best way for you to receive data from carriers/MTOs/etc. (e.g., EDI, API, email)?

4. How do you currently receive data from carriers/MTOs/etc. (e.g., EDI, API, email)?

5. What share of containers do you believe to be available but when you attempt to pick them up, they are not available? What is the cost impact of these delays?

6. What share of containers could you have picked up earlier if you had been notified that they were available earlier? What is the cost impact of these delays?

III. Public Participation

How do I prepare and submit comments?

You may submit comments by using the Federal eRulemaking Portal at www.regulations.gov under Docket No. FMC-2023-0016. Please follow the instructions provided on the Federal eRulemaking Portal to submit comments.

How do I submit confidential business information?

The Commission will provide confidential treatment for identified confidential information to the extent allowed by law. If you would like to request confidential treatment, pursuant to 46 CFR 502.5, you must submit the following, by email, to secretary@fmc.gov:

• A transmittal letter requesting confidential treatment that identifies the specific information in the comment for which protection is sought and demonstrates that the information is a trade secret or other confidential research, development, or commercial information.

• A confidential copy of your comment, consisting of the complete filing with a cover page marked “Confidential-Restricted,” and the confidential material clearly marked on each page.

• A public version of your comment with the confidential information excluded. The public version must state “Public Version—confidential materials excluded” on the cover page and on each affected page and must clearly indicate any information withheld.

Will the Commission consider late comments?

The Commission will consider all comments received before the close of business on the comment closing date indicated above under DATES. To the extent possible, we will also consider comments received after that date.

How can I read comments submitted by other people?

You may read the comments received by the Commission at www.regulations.gov under Docket No. FMC-2023-0016.

By the Commission.
William Cody,
Secretary.

[FR Doc. 2023-17593 Filed 8-15-23; 8:45 am]

BILLING CODE 6730-02-P